DEPARTMENT OF ENERGY

Idaho High-level Waste and Facilities Disposition Draft Environment Impact Statement

AGENCY: U.S. Department of Energy.

ACTION: Notice of availability.

SUMMARY: The Department of Energy (DOE) announces the availability of the Idaho High-level Waste and Facilities Disposition Draft Environmental Impact Statement (EIS) for public review and comment. This Draft EIS has been prepared in accordance with the requirements of the National Environment Policy Act of 1969 as amended (NEPA) (42 U.S.C. 4321 et seq.); Council on Environmental Quality regulations implementing NEPA, 40 CFR Parts 1500-1508; and DOE NEPA Implementing Procedures, 10 CFR Part 1021. The State of Idaho is a Cooperating Agency in the preparation of this Draft EIS and will continue to be involved in the review and preparation of the Final EIS.

This Draft EIS evaluates five waste processing alternatives and six facilities disposition alternatives for high-level radioactive (HLW) waste and liquid mixed transuranic waste stored at DOE's Idaho National Engineering and Environmental Laboratory (INEEL). Currently, there are approximately 4,200 cubic meters of HLW stored in bins as a dry granular calcine and approximately 1.4 million gallons of liquid mixed transuranic waste stored in underground tanks.

Neither DOE nor the State of Idaho has identified a preferred alternative. After considering information in this Draft EIS and other relevant information, DOE and the State will enter into discussions concerning the preferred alternative. If DOE and the State reached agreement, the Final EIS will identify the agreed-upon preferred alternative; if not, the Final EIS will set forth both the State's and DOE's respective choices for the preferred alternative.

The public is invited to comment on the Draft EIS during a 60-day public comment period, which starts on the date of this Notice and ends on March 20, 2000. All comments received during the public comment period will be considered in preparing the Final EIS. Late comments will be considered to the extent practicable.

ADDRESSES: Requests for information about this Draft EIS should be directed to: Thomas L. Wichmann, NEPA Document Manager, U.S. Department of Energy, Idaho Operations Office, 850 Energy Drive, MS 1108, Idaho Falls, ID 83401-1563, (208) 526-0535.

Copies of the document can be requested by telephone at 1-888-918-5100.

Written comments on the Draft EIS can be mailed to Thomas L. Wichmann, NEPA Document Manager, U.S. Department of Energy, Idaho Operations Office, 850 Energy Drive, MS 1108, Idaho Falls, ID 83401-1563, Attention: Public Comments, Idaho, HLW & FD EIS, or submitted by fax to: 208-526-1184, or submitted electronically to: http://www.jason.com/hlwfdeis.

Oral comments on the Draft EIS will be accepted only during the public hearings scheduled for the dates and locations provided in the DATES section of this Notice.

For information on the DOE National Environmental Policy Act process, contact: Carol M. Borgstrom, Director, Office of NEPA Policy and Assistance (EH-42), U.S. Department of Energy, 1000 Independence Avenue, SW, Washington, DC 20585, (202) 586-4600 or leave a message at 1-800-472-2756.

Copies of the Draft EIS and supporting technical reports are available for review at the addresses listed in the “Availability of the Draft EIS” section of this Notice.

DATES: The public is invited to submit written and/or oral comments on the Draft EIS. Comments may also be submitted electronically to http://www.jason.com/hlwfdeis. Example topics on which DOE welcomes comments include: the technical adequacy of the document; what additional alternatives/options should be analyzed; which alternatives/options DOE should select upon completion of the document; and what criteria DOE should use in making these selections. DOE's responses to all comments received during the public comment period will be presented in the Final EIS. The comment period on this Draft EIS begins on the date of this Notice and ends on March 20, 2000. Comments postmarked after that date will be considered to the extent practicable. DOE expects to issue the Final EIS in mid-2000.

DOE will hold a series of 7 public hearings according to the schedule below. The session format will provide for collection of written and oral comments and will enable the public to discuss issues and concerns with DOE managers. Participants who wish to present oral comments at the hearings are asked to registger in advance by calling the toll-free number: 1-888-918-5100. Requests to speak that have not been submitted prior to the hearings will be handled in the order in which they are received during the hearings.

Schedule of Public Hearings
Cities | Dates | Meeting times | Meeting locations
Idaho Falls, ID | February 7, 2000 | 7:00 pm | Shilo Inn.
Pocatello, ID | February 8, 2000 | 6:00 pm | Idaho State University Student Union.
Jackson, WY | February 9, 2000 | 6:00 pm | Snow King Lodge.
Twin Falls, ID | February 15, 2000 | 6:00 pm | College of Southern ID Taylor Building.
Boise, ID | February 17, 2000 | 6:00 pm | The Grove Hotel.
Portland, OR | February 22, 2000 | 6:00 pm | Doubletree Lloyd Center.
Pasco, WA | February 24, 2000 | 6:00 pm | Doubletree Pasco Hotel.
Open house will be held one hour prior to meeting times.

SUPPLEMENTARY INFORMATION:

Background

From 1952 to 1991, DOE and its predecessor agencies reprocessed spent nuclear reactor fuel at the Idaho Chemical Processing Plant, located on the Snake River Plain in the desert of Southeast Idaho. This facility, now known as the Idaho Nuclear Technology Engineering Center (INTEC), is part of the INEEL nuclear research complex that has served the nation through both peaceful and defense-related missions.

Reprocessing operations at INTEC produced mixed HLW (i.e., HLW containing hazardous characteristics or components that are regulated under the Resource Conservation and Recovery Act) HLW from the first extraction cycle of the operation. Subsequent treatment processes and decontamination activities generated liquid mixed transuranic waste. This waste is much less radioactive than the mixed HLW.

All of the liquid mixed HLW was converted to calcine (a dry granular substance) over several years. This conversion was completed in 1998. Stored in large, robust bin sets, the mixed HLW calcine is a more stable waste form that poses less environmental risk than liquid radioactive waste stored in underground tanks. However, the mixed HLW calcine does not meet planned HLW disposal repository waste acceptance criteria, and further treatment would be necessary to convert the mixed HLW calcine to a form that would be acceptable for disposal in such a repository. At present, approximately 4,200 cubic meters of mixed HLW calcine is stored in the bin sets.

Since spent nuclear fuel reprocessing was discontinued in 1991, DOE has continued to accumulate liquid mixed transuranic waste in underground tanks from decontamination and other ongoing operations. At present, approximately 1.4 million gallons of liquid mixed transuranic waste is stored in eleven underground tanks.

In a 1995 Settlement Agreement, DOE and the State of Idaho agreed that the underground tanks would be emptied down to the residual heels by 2012, and that by a target date of 2035, all of the mixed HWL would be treated and made ready for shipment out of Idaho. DOE intends to continue to manage these wastes according to regulatory requirements, in a manner that helps to ensure the protection of human health and the environment.

To meet its commitments and objectives, DOE needs to decide:

• How to treat INTEC mixed HLW so that it can be transported out of Idaho to a storage facility or repository.

• How to treat and where to dispose of other radioactive wastes that are associated with the HLW management program at INTEC.

• How to close associated HWL-related facilities.

On September 19, 1997, DOE issued a Notice of Intent (62 FR 49209) to prepare the Idaho High-level Waste and Facilities Disposition Environmental Impact Statement. The public scoping period announced in the Notice of Intent extended from September 19, 1997, to November 24, 1997. During this period, DOE held public scoping workshops in Idaho Falls and Boise, Idaho. DOE also sponsored open houses, set up and staffed booths and displays at shopping malls throughout southern Idaho, made presentations to schools and civic groups, and provided individual briefings to government and Tribal officials, local interest groups, site employees, and the INEEL Citizens Advisory Board. DOE received more than 900 comments during the public scoping period and used these comments to refine the proposed action and the alternatives. The proposed action and alternatives analyzed in this Draft EIS are described in the following two sections.

Proposed Action

DOE has identified the following proposed actions to support the needed decisions.

• Develop appropriate technologies and construct facilities necessary to manage INTEC mixed HLW and mixed liquid transuranic waste.

• Treat the mixed HLW calcine so that it will be suitable for disposal in a repository.

• Treat and dispose of the sodium-bearing, liquid mixed transuranic waste.

• Provide for the disposition of the INTEC HLW management facilities when their missions are completed.

Alternatives Analyzed

DOE analyzed the potential impacts of implementing five waste processing and six facilities disposition alternatives over the period 2000 through 2095. Each alternative has a specific time line for implementation and completion. For residual contamination or waste disposal, DOE analyzed potential impacts over 10,000 years.

Waste Processing Alternatives address HLW treatment technologies, pretreatment requirements for the liquid mixed transuranic waste, and storage and disposal options for treated wastes. These alternatives are listed and briefly described below.

• No Action Alternative—This alternative serves as a basis for comparing other alternatives. DOE would not continue to calcine liquid mixed transuranic waste, but would continue to reduce the volume of this waste via evaporation until all of the available underground tanks are full. The liquid mixed transuranic waste would remain in the tanks indefinitely, and the mixed HLW calcine would remain in the bins indefinitely. Maintenance to protect workers and the environment would continue, but there would be no major upgrades.

• Continued Current Operations Alternative—The calcining facility would be upgraded and would continue processing the liquid mixed transuranic wastes to empty the underground tanks to material left in the tanks after initial reprocessing. Residual material in the tanks would be treated; transuranic waste would be shipped to the Waste Isolation Pilot Plant for disposal, and low-level waste would be grouted for disposal at INEEL. The mixed HLW calcine would remain in the bin sets indefinitely.

• Separations Alternative—Three options were analyzed for chemically separating the waste into fractions that would be disposed of according to their waste classification. These options are as follows.

The Full Separations Option would retrieve and dissolve the mixed HLW calcine from the bin sets and would chemically separate the most highly radioactive and long-lived radiosotopes from both mixed HLW calcine and the liquid mixed transuranic waste. The most highly radioactive wastes would be prepared for disposal in a HLW repository. The process stream remaining, after separating out the mixed HLW fraction, would be managed as mixed low-level waste, suitable for disposal in a near-surface landfill at INEEL or an offsite disposal facility.

The Planning Basis Option reflects previously announced DOE decisions and agreements with the State of Idaho regarding the management of mixed HLW and liquid mixed transuranic waste. This option is similar to the Full Separations Option except that, prior to separation, the liquid mixed tansuranic waste would be calcined and stored in the bin sets along with the mixed HLW. Under this option, the low-level waste fraction would be grouted for disposal offsite.

The Transuranic Separations Option would retrieve and dissolve the mixed HLW calcine and chemically treat the dissolved calcine and the liquid mixed transuranic waste, including the residual material remaining in the tanks. This treatment process would result in waste streams that could be managed as transuranic waste and as low-level waste. A HLW fraction would not result. The transuranic waste would be packaged and shipped to the Waste Isolation Plant for disposal, and the low-level waste would be grouted for disposal at INEEL or at an offsite disposal facility.

• Non-Separations Alternative—The mixed HLW and liquid mixed transuranic waste would be processed into immobilized forms. Transuranic waste generated as a result of these processes would be packaged and shipped to the Waste Isolation Pilot Plant for disposal, and low-level wastes would be grouted for disposal in a near-surface landfill at INEEL or offsite. These treatment options are as follows.

The Hot Isostatic Waste Option would calcine the liquid mixed transuranic waste and add the calcine to the mixed HLW calcine in the bin sets. All calcine would then be retrieved and converted to an impervious, glass-ceramic waste form. Implementing this option would require a determination from the U.S. Environmental Protection Agency that the final form of the HLW would be suitable for disposal in a HLW repository.

The Direct Cement Waste Option is similar to the Hot Isostatic Waste Option except that all of the calcine would be converted to a cement-like solid. Implementing this option would require a determination from the U.S. Environmental Protection Agency that the final form of the HLW would be suitable for disposal in a HLW repository.

The Early Vitrification Option would directly process both the mixed HLW calcine and the liquid mixed transuranic waste into a glass-like solid. The resulting HLW glass would be suitable for disposal in a repository; the mixed transuranic waste would be shipped to the Waste Isolation Pilot Plant.

• Minimum INEEL Processing Alternative—The mixed HLW calcine would be retrieved, packaged for transportation, and shipped to DOE's Hanford Site in Richland, WA. The calcine would be separated into high-radioactivity and low-radioactivity fractions. The high-radioactivity fraction would be processed to a glass form suitable for disposal in a repository and either shipped directly to an offsite facility or returned to INEEL to await shipment to a HLW repository. Likewise, the low-radioactivity fraction would be prepared for disposal in a near-surface landfill at INEEL or an offsite facility.

Facilities Disposition Alternatives were developed and analyzed to address the final risk component of the proposed actions and close HLW treatment and associated management facilities when their missions are completed. These alternatives are listed and briefly described below.

• No Action Alternative—DOE would not close its HLW facilities at INEEL, but would maintain the facilities to ensure the safety and health of workers and the public until 2095. After that time, for purposes of analysis, DOE assumed that institutional controls such as surveillance and maintenance would not continue.

• Clean Closure Alternative—All of the hazardous wastes and radiological contaminants, including contaminated equipment, would be removed from the facility or treated so that any remaining hazardous and radiological contaminants would be indistinguishable from background concentrations.

• Performance-based Closure Alternative—Closure methods would be determined on a case-by-case basis, depending on risk, in accordance with risk-based criteria. Most above-ground structures would be razed and most underground structures would be decontaminated and left in place. Any remaining facilities would be decontaminated to comply with applicable requirements for protecting the health of workers and the public.

• Closure to Landfill Standards Alternative—Facilities would be closed in accordance with State of Idaho and Federal requirements specified in regulations for closure of landfills.

• Performance-based Closure with Class A Grout Alternative—Facilities would be closed as described for the Performance-based Closure alternative, except that the tanks or bin sets would be used to dispose of Class A Type low-level waste.

• Performance-based Closure with Class C Grout Alternative—Facilities would be closed as described for the Performance-based Closure alternative, except that the tanks or bin sets would be used to dispose of Class C Type low-level waste.

Preferred Alternative

Neither DOE nor the State of Idaho has identified a preferred alternative for either the waste processing or the facilities disposition alternatives. After considering information in this Draft EIS, including public comments and other relevant information, DOE and the State will enter into discussions concerning the preferred alternative. If DOE and the State reach agreement, the Final EIS will identify the agreed-upon preferred alternative; if not, the Final EIS will set forth both the State's and DOE's respective choices for the preferred alternatives.

Availability of the Draft EIS

Copies of this Draft EIS have been distributed to Federal, State, and local officials, as well as agencies, organizations and individuals who may be interested or affected. This Draft EIS is available on the Internet at: http://tis.eh.doe.gov/nepa/docs/docs.htm. Additional copies can be requested by telephone at 1-888-918-5100. Copies of the Draft EIS and supporting technical reports are also available for public review at the locations listed below.

In December 1999, the National Research Council issued a study that DOE had requested of the technical options for treating high-level waste at the Idaho National Engineering and Environmental Laboratory. Copies of the study, entitled Alternative High-level Waste Treatments at the Idaho National Engineering and Environmental Laboratory, are also available at the locations listed below. DOE will consider the study and all comments received during the public comment period in preparing the Final EIS.

Colorado

U.S. Department of Energy, Rocky Flats Operations Office, Public Reading Room, Front Range College Library, 3705 112th Avenue, Westminister, CO 80030, Telephone: (303) 469-4435

Idaho

Boise Outreach Office, INEEL-Boise City National Bank, 895 West Idaho Street, Boise, ID 83706, Telephone: (208) 334-9572

Boise Public Library, 715 Capital Boulevard, Boise, ID 83706, Telephone: (208) 384-4023

Boise State University Library, Albertson Library, 1910 University Drive, Boise, ID 83705, Telephone: (208) 426-3903

Shoshone-Bannock Library, Bannock and Pima Streets, P.O. Box 306, Fort Hall, ID 83203, Telephone: (208) 238-3882

INEEL Technical Library, DOE Public Reading Room, 2525 N. Fremont Place, University Place, Idaho Falls, ID 83402, Telephone: (208) 526-9162

Idaho Falls Public Library, 457 Broadway, Idaho Falls, ID 83402, Telephone: (208) 529-1450

Lewis-Clark State College, The Library, 500 8th Ave., Lewiston, ID 83501, Telephone: (208) 799-5272

University of Idaho Library, Rayburn Street, Moscow, ID 83844, Telephone: (208) 885-6344

Idaho State University Public Library, 741 South 7th Ave., Pocatello, ID 83209, Telephone: (208) 236-3152

Twin Falls Public Library, 434 2nd Street East, Twin Falls, ID 83301, (208) 733-2964

Montana

Mansfield Library, Government Documents Collection, University of Montana, Missoula, MT 59812, Telephone: (406) 243-6860

Nevada

U.S. Department of Energy, Nevada Operations Office, Public Reading Room, 2621 Losee Rd., B-3 Building, North Las Vegas, NV 89030, Telephone: (702) 295-0731

New Mexico

US DOE Public Document Collection, University of New Mexico Government Information Department, Zimmerman Library, Albuquerque, NM 87131, Telephone: (505) 277-5441

Oregon

U.S. Department of Energy, Bonneville Power Administration Reading Room, 905 Northeast 11th Avenue, Portland, OR 97232, Telephone: (503) 725-4617

Utah

Marriott Library, Public Document Collection, University of Utah, 295 S. 1500 East, Salt Lake City, UT 84112, Telephone: (801) 581-8394

Washington

U.S. Department of Energy, Richland Operations Office, Washington State University, WSU Tri-Cities Branch Campus, 100 Sprout Road, Richlands, WA 99352, Telephone: (509) 376-8583

Wyoming

Teton County Public Library, 125 Virginian Lane, Jackson, WY 83001, Telephone: (307) 733-2164

Wyoming State Library, Government Documents Collection, 2301 Capitol Avenue, Cheyenne, WY 82002, Telephone: (307) 777-6333

District of Columbia

DOE Forrestal Building, Freedom of Information Reading Room, 1000 Independence Ave., SW, Washington, DC 20585, Telephone: (202) 586-6020

Issued in Washington, DC, January 14, 2000.
Mark W. Frei,
Deputy Assistant Secretary for Project Completion, Environmental Management.

[FR Doc. 00-1494 Filed 1-20-00; 8:45 am]

BILLING CODE 6450-01-M